COMMISSION ON CIVIL RIGHTS

Notice of Public Meeting of the Nebraska Advisory Committee to the U.S. Commission on Civil Rights

AGENCY: U.S. Commission on Civil Rights.

ACTION: Announcement of meetings.

SUMMARY: Notice is hereby given, pursuant to the provisions of the rules and regulations of the U.S. Commission on Civil Rights (Commission) and the Federal Advisory Committee Act that the Nebraska Advisory Committee (Committee) to the U.S. Commission on Civil Rights will hold a business meeting and report release virtual event via web conference. The purpose of the meeting on November 4, 2025 at 3:30 p.m. (CST) will be to discuss post-report activities for their report on the Effects of the Covid-19 Pandemic on K-12 Education in the State. The pupose of the virtual event on November 13, 2025 at 11:00 a.m. (CST) is to share a presentation about the recently published report on the Effects of the Covid-19 Pandemic on K-12 Education in the State.

ADDRESSES: The meeting will be held via Zoom.

Tuesday, November 4, 2025 From 3:30 p.m.-5:00 p.m. Central Time

Registration Link (Audio/Visual): https://www.zoomgov.com/webinar/register/WN_OGmeDtA4Tc2iB7pQRRlLMQ.

Join by Phone (Audio Only): 1-833-435-1820 USA Toll Free; Meeting ID: 160 207 8199.

Thursday, November 13, 2025 From 11:00 a.m.-12:00 p.m. Central Time

Registration Link (Audio/Visual): https://www.zoomgov.com/webinar/register/WN_XtfWHDb3Qp6DxeqnLDz-jQ.

Join by Phone (Audio Only): 1-833-435-1820 USA Toll Free; Meeting ID: 161 561 4822.

FOR FURTHER INFORMATION CONTACT: Victoria Moreno, DFO, at vmoreno@usccr.gov or by phone at 434-515-0204.

SUPPLEMENTARY INFORMATION: Members of the public may listen to the discussions through the above call-in numbers (audio only) or online registration links (audio/visual). An open comment period at each meeting will be provided to allow members of the public to make a statement as time allows. Callers can expect to incur regular charges for calls they initiate over wireless lines, according to their wireless plan. The Commission will not refund any incurred charges. Callers will incur no charge for calls they initiate over land-line connections to the toll-free telephone number. Individuals who are deaf, deafblind, and/or hard of hearing may also follow the proceedings by first calling the Federal Relay Service at 1-800-877-8339 and providing the Service with the conference call number and meeting ID number.

Members of the public are entitled to submit written comments; the comments must be received in the regional office within 30 days following the meetings. Written comments may be emailed to Victoria Moreno at vmoreno@usccr.gov.

Records generated from this meeting may be inspected and reproduced at the Regional Programs Unit Office, as they become available, both before and after the meetings. Records of the meetings will be available via www.facadatabase.gov under the Commission on Civil Rights, Nebraska Advisory Committee link. Persons interested in the work of this Committee are directed to the Commission's website, http://www.usccr.gov, or may contact the Regional Programs Unit at the above email or street address.

Agenda for November 4, 2025 Can Be Found in the FY2026 Meeting Records Folder Here

https://usccr.app.box.com/folder/265885544892?s=mllfk8buuqc8px161vwq7oiboct6u5il.

Agenda for November 13, 2025 Can Be Found FY2026 Meeting Records Folder Here

https://usccr.app.box.com/folder/265885544892?s=mllfk8buuqc8px161vwq7oiboct6u5il.

Dated: September 30, 2025.
David Mussatt,
Supervisory Chief, Regional Programs Unit.

[FR Doc. 2025-19432 Filed 10-2-25; 8:45 am]

BILLING CODE;P